DEPARTMENT OF ENERGY

Federal Energy Regulatory Commission

[Docket No. RP03-342-001]

Questar Pipeline Company; Notice of Tariff Filing

May 2, 2003.

Take notice that on April 29, 2003, Questar Pipeline Company (Questar) tendered for filing as part of its FERC Gas Tariff, First Revised Volume No. 1, Substitute Second Revised Sheet No. 85 and Substitute Original Sheet No. 88C, to be effective May 12, 2003.

Questar states that this filing proposes to amend Questar's April 14, 2003, tariff filing (April 14 filing) that was filed to update Questar's Measurement section of its tariff to comport with current industry measurement standards and practices. Questar states that the proposed language in two sheets in that filing reflected an inadvertent deletion of portions of two NAESB Standards (2.3.9 and 2.3.14). With this filing, Questar seeks to amend the April 14 filing by reversing the NAESB Standards deletions.

Questar states that a copy of this filing has been served upon its customers, the Public Service Commission of Utah and the Public Service Commission of Wyoming.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: May 12, 2003.

Magalie R. Salas,
Secretary.

[FR Doc. 03-11508 Filed 5-7-03; 8:45 am]

BILLING CODE 6717-01-P